DEPARTMENT OF AGRICULTURE

Submission for OMB Review; Comment Request

May 29, 2014.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 7, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Regulations for Voluntary Grading of Shell Eggs, Poultry Products and Rabbit Products—7 CFR Part 56 and 70.

OMB Control Number: 0581-0128.

Summary of Collection: The Agricultural Marketing Act of 1946 (60 Stat. 1087-1091, as amended; 7 U.S.C. 1621-1627) (AMA) directs and authorizes the Department to develop standards of quality, grades, grading programs, and services to enable a more orderly marketing of the corresponding agricultural products so trading may be facilitated and so consumers may be able to obtain products graded and identified under USDA programs. The Agricultural Marketing Service (AMS) carries out regulations in 7 CFR Part 56 and 70 which provides a voluntary program for grading shell eggs, poultry products and rabbit products on the basis of U.S. standards, grades, and weight classes. This program is made available to respondents who would need to request or apply for the specific service they wish on a user fee-for-service basis.

The agency is merging approved 0581-0127 burden in with the renewal of this collection. Upon approval of 0581-0128 a discontinuation notice for 0581-0127 will be submitted to OMB.

Need and Use of the Information: Using forms PY-32, PY-33, PY-100, PY-157, PY-240P, PY-240S, PY-210P, PY-210S and PY-518-1 information is collected only from respondents who elect to utilize this voluntary user fee-for-service. Only authorized representatives of the USDA use the information collected. The information is used to administer, conduct and carry out the grading services requested by the respondents. If the information were not collected, the agency would not be able to provide the voluntary grading services authorized and requested by Congress, provide the types of services requested by industry, administer the program, ensure properly grade-labeled products, calculate the cost of the service or collect for the cost furnishing service.

Description of Respondents: Business or other for profit, Farms.

Number of Respondents: 1,348.

Frequency of Responses: Reporting: On occasion; Semi-annually; Monthly; Annually; Other (daily).

Total Burden Hours: 7,259.

Agricultural Marketing Service

Title: USDA Farmers Market Application.

OMB Control Number: 0581-0229.

Summary of Collection: The Agricultural Marketing Act of 1946 (7 U.S.C. 1622(n) authorizes the Secretary to conduct services and to perform activities that will facilitate the marketing and utilization of agricultural products through commercial channels. The Agricultural Marketing Service (AMS) is authorized to implement established regulations and procedures under 7 CFR part 170 for AMS to operate the U.S. Department of Agriculture (USDA) Farmers Market, specify vendor criteria and selection procedures, and define guidelines to be used for governing the USDA Farmers Market annually.

Need and Use of the Information: Information will be collected on form TM-28, “USDA Farmers Market Application.” The application was developed to ensure a uniform and fair process for deciding which farm operations are allowed to participate in the market, as well as ensure diversity of product for consumers. The Program has expanded to a year-round market. The Summer/Outdoor market season is from June through November and the Winter/Indoor market season operates from December through May. AMS will collect information to review the type of products available for sale and selecting participants for the annual market season. The information collected consists of (1) certification that the applicant is the owner or a representative of the farm or business; (2) name(s), address, telephone number and email address; (3) farm or business location; (4) types of products grown; (5) business practices; and (6) insurance coverage.

Description of Respondents: Business or other for-profit; Farms.

Number of Respondents: 30.

Frequency of Responses: Reporting: Annually.

Total Burden Hours: 60.

Charlene Parker,
Departmental Information Collection Clearance Officer.

[FR Doc. 2014-12896 Filed 6-3-14; 8:45 am]

BILLING CODE 3410-02-P